ENVIRONMENTAL PROTECTION AGENCY

40 CFR Parts 52 and 81

[EPA-R10-OAR-2007-0915; FRL-8747-7]

Approval and Promulgation of State Implementation Plans: Oregon; Salem Carbon Monoxide Nonattainment Area; Designation of Areas for Air Quality Planning Purposes

Correction

In rule document E8-30825 beginning on page 79655 in the issue of Tuesday, December 30, 2008, make the following corrections:

1. On page 79655, in the third column, in the DATES section, in the fourth line, “January 29, 2008” should read “January 29, 2009”.

§81.338 [Corrected]

2. On page 79661, in § 81.338, in the table “OREGON—CARBON MONOXIDE”, in the “Date” column, both instances of “3/2/08” should read “3/2/09”

[FR Doc. Z8-30825 Filed 1-9-09; 8:45 am]

BILLING CODE 1505-01-D